DEPARTMENT OF THE INTERIOR

Bureau of Land Management

[AZ-050-00-1430-ES; AZA 17382]

Arizona: Notice of Realty Action

SUMMARY: This notice modifies the proposed and initial classification orders dated April 4, 1982, and June 4, 1982, respectively, to correct the total number of acres classified to be 31 acres, more or less. The classification orders listed above classified the land for lease or patent under the Recreation and Public Purposes Act, as amended (43 U.S.C. 869, et seq.) but incorrectly cited the acreage affected as being 18.5 acres, more or less. The lands are currently leased to and used by the City of San Luis under the provisions of the Recreation and Public Purposes Act, as amended (43 U.S.C. 869, et seq.) for a wastewater treatment plant. The City will receive a patent to these lands in the near future. This notice also informs the public that the lands previously identified in the classification order listed above have been re-surveyed and are now legally described as follows:

Gila and Salt River Meridian, Arizona

T. 11 S., R. 25 W.,

sec. 2, lots 2 and 3; sec. 11, lots 27 and 28.

Containing 31.0, more or less.

SUPPLEMENTARY INFORMATION: The lands are currently classified and are segregated from all other forms of appropriation under the public land laws, including the general mining laws, except for lease or conveyance under the R&PP Act and leasing under the mineral leasing laws. This correction does not change the former classification and segregation of these lands.

FOR FURTHER INFORMATION CONTACT: Debbie DeBock, Realty Specialist, Yuma Field Office, 2555 East Gila Ridge Road, Yuma, AZ 85365; (520) 317-3208.

Dated: August 22, 2000.
Maureen A. Merrell,
Assistant Field Manager/Acting Field Manager.

[FR Doc. 00-22449 Filed 8-31-00; 8:45 am]

BILLING CODE 4310-32-P